DEPARTMENT OF DEFENSE

Office of the Secretary

[Docket ID DoD-2008-OS-0170]

Privacy Act of 1974; Systems of Records

AGENCY: Defense Finance and Accounting Service, DoD.

ACTION: Notice to Alter a System of Records.

SUMMARY: The Defense Finance and Accounting Service (DFAS) proposes to alter a system of records notice in its inventory of record systems subject to the Privacy Act of 1974 (5 U.S.C. 552a), as amended.

DATES: This Action will be effective without further notice on February 6, 2009 unless comments are received that would result in a contrary determination.

ADDRESSES: Send comments to the FOIA/PA Program Manager, Corporate Communications and Legislative Liaison, Defense Finance and Accounting Service, 8899 E. 56th Street, Indianapolis, IN 46249-0150.

FOR FURTHER INFORMATION CONTACT: Ms. Linda Krabbenhoft at (303) 589-3510.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on December 30, 2008, to the House Committee on Government Reform, the Senate Committee on Governmental Affairs, and the Office of Management and Budget (OMB) pursuant to paragraph 4c of Appendix I to OMB Circular No. A-130, `Federal Agency Responsibilities for Maintaining Records About Individuals,' dated December 12, 2000, 65 FR 239.

Dated: December 30, 2008.
Patricia L. Toppings,
OSD Federal Register Liaison Officer, Department of Defense.

T7347b

System name:

Defense Military Retiree and Annuity Pay System (February 20, 2003, 68 FR 8230).

Changes:

* * * * *

System location:

Delete entry and replace with “Director of Continuing Government Activity, Defense Finance and Accounting Service—Cleveland, 1240 East Ninth Street, Cleveland, OH 44199-2055.”

Categories of individuals covered by the system:

Delete entry and replace with “Military retirees, their dependents, their survivors, former spouses and abused dependents.”

Categories of records in the system:

Delete entry and replace with “Name, Social Security Number (SSN), address, telephone number, master pay files, court orders, Application for Transitional Compensation, payment schedules, case processing record, direct deposit forms, annual certification form, acknowledgment action form, correspondence and other supporting documents relating to entitlements and deductions of military retirees, annuitants, dependents, former spouses and abused dependents.”

Authority for maintenance of the system:

Delete entry and replace with “5 U.S.C. 301, Departmental Regulations; 10 U.S.C., Chapters 53, 61, 63, 65, 67, 69, 71, 73, 74; 10 U.S.C. Sec. 1059, and 1408(h); 38 U.S.C. Sec. 1311 and 1313; Pub. L. 92-425; Pub. L. 102-484 Sec. 653; Pub. L. 103-160 Sec. 554 and 1058; Pub. L. 105-261, Sec. 570; DoDI 1342.24, Transitional Compensation for Abused Dependents; DoD Financial Management Regulation 7000.14-R, Volume 7B and E.O. 9397 (SSN).”

Purpose(s):

Delete entry and replace with “To maintain pay and personnel information for use in the computation of military retired pay survivor annuity pay and to make payments to spouses, former spouses and other dependents who are victims of abuse.”

Routine uses of records maintained in the system, including categories of users and the purposes of such uses:

Add a new routine use “To receive approved requests from the military services to make payments of transitional compensation to military member's spouses, former spouses, and other dependents that are determined to be victims of abuse.”

* * * * *

Storage:

Delete entry and replace with “Maintained in file folders and electronic storage media.”

Retrievability:

Delete entry and replace with “Name and Social Security Number (SSN).”

Retention and disposal:

Delete entry and replace with “Disposition for Retired and Annuitant Pay records range from 30 days to 56 years. The administrative records such as, change of address, electronic messages or tax records, that are not pay affecting, are destroyed using retention of 30 days to less than 6 years. All pay affecting documents such as retirement documents, account computation information or entitlement/eligibility records are retained for six years or more and the pay histories are retained for 56 years. Records are destroyed by tearing, shredding, pulping, macerating, burning, or degaussing the electronic storage media.”

System manager(s) and address:

Delete entry and replace with “Policy official: Director of Continuing Government Activity, Defense Finance and Accounting Service Cleveland, (DFAS-PD/CL), 1240 East Ninth Street, Cleveland, OH 44199-2055.

Record holder: Systems Manager, Lockheed Martin, Defense Finance and Accounting Service—Cleveland, 1240 East Ninth Street, Cleveland, OH 44199-2055.”

Notification procedure:

Delete entry and replace with “Individuals seeking to determine whether information about them is contained in this record system should address written inquiries to the Defense Finance and Accounting Service, Freedom of Information/Privacy Act Program Manager, Corporate Communications and Legislative Liaison, 8899 East 56th Street, Indianapolis, IN 46249-0150.

The requester should be able to provide sufficient proof of identity, such as name, Social Security Number (SSN), place of employment, or other information available from the record itself.”

Record access procedures:

Delete entry and replace with “Individuals seeking access to information about them contained in this system should address written inquiries to Defense Finance and Accounting Service, Freedom of Information/Privacy Act Program Manager, Corporate Communications and Legislative Liaison, 8899 East 56th Street, Indianapolis, IN 46249-0150.

The requester should be able to provide sufficient proof of identity, such as name, Social Security Number, place of employment, or other information available from the record itself.”

Contesting record procedures:

Delete entry and replace with “The DFAS rules for accessing records, for contesting contents and appealing initial agency determinations are published in DFAS Regulation 5400.11-R; 32 CFR part 324; or may be obtained from the Freedom of Information/Privacy Act Program Manager, Corporate Communications and Legislative Liaison, 8899 East 56th Street, Indianapolis, IN 46249-0150.”

Record source categories:

Delete entry and replace with “From the individual concerned; other DoD Components such as Army, Navy, Air Force and Marine Corps; state or local governments; members' survivors such spouses, other dependents or guardians of the member or dependent children; former spouses, private law firms which are executors of estates in casualty cases, financial, educational and medical institutions, and other federal government agencies such as the Department of Veterans Affairs, Social Security Administration, and Internal Revenue Service.”

* * * * *

T7347b

System name:

Defense Military Retiree and Annuity Pay System Records.

System location:

Director of Continuing Government Activity, Defense Finance and Accounting Service—Cleveland, 1240 East Ninth Street, Cleveland, OH 44199-2055.

Categories of individuals covered by the system:

Military retirees, their dependents, their survivors, former spouses and abused dependents.

Categories of records in the system:

Name, Social Security Number (SSN), address, telephone number, master pay files, court orders, Application for Transitional Compensation, payment schedules, case processing record, direct deposit forms, annual certification form, acknowledgment action form, correspondence and other supporting documents relating to entitlements and deductions of military retirees, annuitants, dependents, former spouses and abused dependents.

Authority for maintenance of the system:

5 U.S.C. 301, Departmental Regulations; 10 U.S.C., Chapters 53, 61, 63, 65, 67, 69, 71, 73, 74; 10 U.S.C. Sec. 1059, and 1408(h); 38 U.S.C. Sec. 1311 and 1313; Pub. L. 92-425; Pub. L. 102-484 Sec. 653; Pub. L. 103-160 Sec. 554 and 1058; Pub. L. 105-261, Sec. 570; DoDI 1342.24, Transitional Compensation for Abused Dependents; DoD Financial Management Regulation 7000.14-R, Volume 7B and E.O. 9397 (SSN).

Purpose(s):

To maintain pay and personnel information for use in the computation of military retired pay survivor annuity pay and to make payments to spouses, former spouses and other dependents who are victims of abuse.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Records are provided to the Internal Revenue Service for normal wage and tax withholding.

Disclosures are made to the Department of Veterans Affairs (DVA) regarding establishments, changes and discontinuing of DVA compensation to retirees and annuitants.

Information is provided to individuals authorized to receive retired and annuitant payments on behalf of retirees or annuitants.

The Army Emergency Relief, Navy-Marine Corps Relief Society and Air Force Assistance Fund to process allotments for repayment of interest-free loans from the society and retiree charitable allotments in support of fund drives initiated by the Secretaries of the Army, Navy, and Air Force. The information will be used to process allotments on behalf of service members and retirees.

To officials and employees of the American Red Cross in the performance of their official duties relating to the assistance of the members and their dependents and relatives.

To former spouses for purposes of providing information, consistent with the requirements of 10 U.S.C. 1450(f)(3), regarding Survivor Benefit Plan coverage.

To spouses for purposes of providing information, consistent with the requirements of 10 U.S.C. 1448(a), regarding Survivor Benefit Plan coverage.

To receive approved requests from the military services to make payments of transitional compensation to military member's spouses, former spouses, and other dependents that are determined to be victims of abuse.

The DoD ‘Blanket Routine Uses’ published at the beginning of the DFAS compilation of systems of records notices also apply to this system.

Policies and practices for storing, retrieving, accessing, retaining, and disposing of records in the system:

Storage:

Maintained in file folders and electronic storage media.

Retrievability:

Name and Social Security Number (SSN).

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

Retention and disposal:

Disposition for Retired and Annuitant Pay records range from 30 days to 56 years. The administrative records such as, change of address, electronic messages or tax records, that are not pay affecting, are destroyed using retention of 30 days to less than 6 years. All pay affecting documents such as retirement documents, account computation information or entitlement/eligibility records are retained for six years or more and the pay histories are retained for 56 years. Records are destroyed by tearing, shredding, pulping, macerating, burning, or degaussing the electronic storage media.

System manager(s) and address:

Policy official: Director of Continuing Government Activity, Defense Finance and Accounting Service Cleveland, (DFAS-PD/CL), 1240 East Ninth Street, Cleveland, OH 44199-2055.

Record holder: Systems Manager, Lockheed Martin, Defense Finance and Accounting Service—Cleveland, 1240 East Ninth Street, Cleveland, OH 44199-2055.

Notification procedure:

Individuals seeking to determine whether information about them is contained in this record system should address written inquiries to the Defense Finance and Accounting Service, Freedom of Information/Privacy Act Program Manager, Corporate Communications and Legislative Liaison, 8899 East 56th Street, Indianapolis, IN 46249-0150.

The requester should be able to provide sufficient proof of identity, such as name, Social Security Number, place of employment, or other information available from the record itself.

Record access procedures:

Individuals seeking access to information about them contained in this system should address written inquiries to Defense Finance and Accounting Service, Freedom of Information/Privacy Act Program Manager, Corporate Communications and Legislative Liaison, 8899 East 56th Street, Indianapolis, IN 46249-0150.

The requester should be able to provide sufficient proof of identity, such as name, Social Security Number, place of employment, or other information available from the record itself.

Contesting record procedures:

The DFAS rules for accessing records, for contesting contents and appealing initial agency determinations are published in DFAS Regulation 5400.11-R; 32 CFR part 324; or may be obtained from the Freedom of Information/Privacy Act Program Manager, Corporate Communications and Legislative Liaison, 8899 East 56th Street, Indianapolis, IN 46249-0150.

Record source categories:

From the individual concerned; other DoD Components such as Army, Navy, Air Force and Marine Corps; state or local governments; members' survivors such as spouses, other dependents or guardians of the member or dependent children; former spouses, private law firms which are executors of estates in casualty cases, financial, educational and medical institutions, and other federal government agencies such as the Department of Veterans Affairs, Social Security Administration, and Internal Revenue Service.

Exemptions claimed for the system:

None.

[FR Doc. E9-41 Filed 1-6-09; 8:45 am]

BILLING CODE 5001-06-P